DEPARTMENT OF COMMERCE

Technology Administration

[Docket No.: 010514126-1126-01]

RIN 0692-ZA00

Under Secretary/Office of Technology Policy Grants Program

AGENCY: Technology Administration, Commerce.

ACTION: Notice of availability of funds.

SUMMARY: The Office of Technology Policy, Technology Administration, U.S. Department of Commerce invites proposals from eligible organizations for funding projects under the Under Secretary/Office of Technology Policy (US/OTP) Grants Program. Under this program, the Under Secretary/Office of Technology Policy will provide grants and cooperative agreements in the following areas: Identifying Government Policies That Affect Innovation, Supporting State and Local Efforts to Harness Technology for Economic Development, and Facilitating Technology Development and Transfer.

DATES: The US/OTP Grants Program proposals must be received no later than the close of business September 30, 2001. Proposals received after June 30, 2001 will continue to be processed and considered for funding but may be funded in the next fiscal year, subject to the availability of funds.

ADDRESSES: Applicants are requested to submit one signed original and two copies of the proposal, along with a Grant Application, (Standard Form 424 REV. 7/97 and other required forms), clearly marked to identify the field of research, to: Jon Paugh; Office of Technology Policy; Technology Competitiveness Staff, Room 4418; United States Department of Commerce; 14th & Constitution Ave.; Washington, DC 20239; Tel: (202) 482-2100; E-mail: otptech@ta.doc.gov

FOR FURTHER INFORMATION CONTACT: Karen Laney-Cummings; Office of Technology Policy; Technology Competitiveness Staff, Room 4418; United States Department of Commerce; 14th & Constitution Ave.; Washington, DC 20239; Tel: (202) 482-2100; E-mail: otptech@ta.doc.gov

SUPPLEMENTARY INFORMATION:

Authority: The authority for the US/OTP Grants Program is as follows: As authorized by 15 U.S.C. 3704 (b) and (c) and 15 U.S.C. 3706, the Office of Technology Policy conducts directly, and supports through grants and cooperative agreements, a program of policy analysis and development relating to technological innovation and its contribution to economic growth and industrial competitiveness.

Background: The responsibilities of the Office of Technology Policy (OTP) are defined by the Stevenson-Wydler Technology Innovation Act, 15 U.S.C. 3701 et seq., and related legislation, detailed below. The Stevenson-Wydler Technology Innovation Act requires the Assistant Secretary for Technology Policy, who serves as Director of OTP, to support the Under Secretary for Technology in carrying out the Act's policy responsibilities by:

• Conducting technology policy analyses to improve United States industrial productivity, technology, and innovation, and cooperate with United States industry in the improvement of its productivity, technology, and ability to compete successfully in world markets;

• Identifying technological needs, problems, and opportunities within and across industrial sectors that, if addressed, could make a significant contribution to the economy of the United States;

• Supporting studies and policy experiments, in cooperation with other Federal agencies, to determine the effectiveness of measures with the potential of advancing U.S. technological innovation;

• Encouraging and assisting joint initiatives by State or local governments, regional organizations, private businesses, institutions or higher education, nonprofit organizations, or Federal laboratories to encourage technology transfer, to stimulate innovation, and to promote an appropriate climate for investment in technology-related industries;

• Serving as a convener for discussions among U.S. companies on topics of interest to industry and labor, including discussions regarding manufacturing or emerging technologies.

In addition, the Stevenson-Wydler Technology Innovation Act, the Federal Technology Transfer Act, 15 U.S.C. 3710, the Bayh-Dole Act, 15 U.S.C. 200 et seq., and implementing regulations found at 37 CFR Parts 401, 404, and 501 give OTP specific responsibilities to encourage cooperation between government, universities and industry in the development and diffusion of new technologies. OTP is to:

• Provide services to Federal agencies in support of the commercialization of technology developed at Federal laboratories

• Monitor agency use of cooperative agreements and prepare regular reports on agency use of those mechanisms

• Develop policies and issue regulations governing ownership and licensing of patents arising from Federally-funded research at universities and in small businesses

• Issue regulations governing licensing of Federally owned inventions by the federal agencies

• Decide disputes regarding ownership of patents between Federal agencies and their employees.

Program Description and Objectives: Specific examples of policy-related activities that OTP may wish to support through grants or cooperative agreements are presented here in terms of OTP's areas of policy activity:

I. Identifying Government Policies That Affect Innovation—OTP is interested in identifying and analyzing government policy areas with a marked effect on private sector innovation. To this end, OTP is interested in proposals for projects related to emerging policy issues that affect the business environment for innovation—for example, regulatory barriers, tax and accounting rules, legal issues such as intellectual property rights or liability, investment incentives, capital availability, ethical issues, or workforce-related issues. Preferences will be given to issues that impact multiple business sectors or that may have spillover effects for the U.S. economy.

II. Supporting State and Local Efforts to Harness Technology for Economic Development—OTP is primarily interested in four subtopics. First, OTP is interested in developing a systematic body of knowledge regarding the manner in which Federal laboratories seek to support economic development in the communities in which they reside, and identifying and analyzing the most effective practices utilized by the Federal laboratories for this purpose. The object of this effort is to improve the contribution that Federal laboratories make to local economies.

Second, OTP is also interested in improving the availability of web-based sources of data pertaining to technology-based economic growth, particularly at the sub-state and multi-state levels. Proposals are invited for projects that will assemble and analyze data from a variety of sources about factors that affect high technology industry growth. Such a database should allow users to customize data sets from multiple sources.

Third, OTP is interested in data development and dissemination focusing on public programs' and private entities' efforts to provide capital to new and young technology firms to generate local economic growth ant technological innovation.

Fourth, OTP is also interested in data development and dissemination efforts relating to the comparison of outcomes and determination of best practices in business incubators. Such efforts might be based on quantitative data and case studies where appropriate. OTP is particularly interested in expanding understanding of those incubators that are affiliated with universities or Federal labs.

Specific outcomes for any project may include, but not be limited to, reference guides for analysts, policy makers and program practitioners, the identification of best practices, databases to improve knowledge and program performances, and further progress toward measurement and performance criteria.

III. Facilitating Technology Development and Transfer—OTP is interested in developing a better understanding of the barriers to research collaboration and technology licensing between the private sector and the Federal laboratories. It is especially interested in studies that identify and analyze in detail specific areas where these entities' views and practices diverge in connection with such undertakings. It is also interested in identifying the kinds of information and process that can best enable private sector parties to identify Federal laboratories with the competencies they are seeking. In addition, OTP is interested in developing a more detailed knowledge base concerning the issues arising from university technology transfer with industry under the Bayh-Dole Act, 15 U.S.C. 200 et seq.

OTP is also interested in proposals that may illuminate questions of measurements relating to the technology policy process. For example, while R&D investment and patent grants are useful for measuring technology creation activity, equally effective measures are needed for better gauging the effective use of technology by industry. Another important area relates to measuring the performance of the many companies that rely increasingly on investment and management of intangible assets such as human intelligence, knowledge, ideas, skills, brand recognition, and organizational capabilities. Often referred to as intellectual capital (IC), these and other intangible assets are neither precisely defined nor systematically measured.

Eligibility: Under 15 U.S.C. Sec. 3706, any person is eligible for this program. When applicable, applicants should designate themselves on the SF-424 as institutions of higher education; non-profit organizations; commercial organizations; international organizations; or state, local, and Indian tribal governments.

In addition, US/OTP will accept applications from authorized Federal organizations and compete them with applications from non-Federal applicants. Before a Federal applicant may be considered for funding, it must demonstrate that it has statutory authority to receive funds from another Federal organization in excess of its appropriation. As this announcement is not proposing to procure goods or services for US/OTP from applicants, the Economy Act, 31 U.S.C. Sec. 1535, is not an appropriate legal basis.

Proposals selected for funding from non-Federal applicants will be funded through a project grant or cooperative agreement under the terms of this Notice. Proposals selected for funding from Federal agencies will be funded through an interagency or intra-agency transfer agreement, as applicable.

Funding Availability: In fiscal year 2001, the US/OTP Grants Program anticipates funding of approximately $400,000, including new awards and continuing projects. Most grants and cooperative agreements are expected to be in the $20,000 to $50,000 per year range.

Proposal Review Process and Evaluation Criteria: First, all proposals will be reviewed by OTP staff to determine whether the proposal supports one of OTP's areas of policy responsibility, as described in this Notice. Second, proposals meeting that threshold test will be reviewed and ranked by at least three independent reviewers knowledgeable about the relevant subject area that will be appointed by the OTP Staff Directors.

The reviewers will use the following evaluation criteria:

1. Importance of the proposed research—Does it have the potential of answering or providing new insight into pressing questions in areas of OTP's policy responsibilities? (60%)

2. Expertise and Experience—Does the proposal provide evidence of the applicant's expertise in the relevant subject area? Does the proposal provide evidence that the quality of the research previously carried out by the applicant is such that there is a high probability that the proposed research will be successfully carried out? (20%)

3. Budget—Is the proposed budget reasonable, and is adequate rationale provided for costs? (10%)

4. Implementation Plan—Does the proposal include a reasonable plan for achieving the project goals, and a realistic schedule for the performance of the work, with defined milestones? (10%)

Reviews will be conducted on a bi-monthly basis during the third quarter and fourth quarters of the fiscal year, which ends September 30, 2001.

Third, the results of the reviews will be provided to the Selecting Official, the Director of the Office of Technology Competitiveness, OTP, who will make funding recommendations, taking into account the following:

• The evaluation and ranking by the reviewers,

• The evaluation criteria listed above,

• The degree to which the slate of recommended applications, taken as a whole, satisfies the program's stated purposes, and

• The availability of funds.

Any selection recommendation outside the ranking of the reviewers shall be justified in writing by the Selecting Official on the basis of one or more of the above selection factors.

Fourth, the final approval of selected applications and the award of financial assistance will be made by the Technology Administration's National Institute of Standards and Technology (NIST) Grants Officer, who will handle administration of these awards. The Grants Officer's approval will be based on compliance with application requirements as published in this Notice, compliance with applicable legal and regulatory requirements, and whether the recommended applicants appear to be responsible. The decision of the Grants Officer is final.

Prior to award, applicants may be asked to modify objectives, work plans, or budgets, and provide supplemental information required by the agency.

Applicants should allow up to 90 days processing time.

Award Period: Proposals will generally be considered for research projects for one year. If a proposal for a multi-year project is submitted and approved, funding will initially be provided for only the first year of the program. If an application is selected for funding. DoC has no obligation to provide any additional funding in connection with that award. Funding for each subsequent year of a multi-year proposal will be contingent on satisfactory progress, continuing relevance to OTP's mission, and the available of funds.

Matching Requirements: Pursuant to 15 U.S.C. 3706, the Office of Technology Policy Grants Program may not fund more than 75 percent of any project performed under a grant or cooperative agreement. Therefore, at least 25 percent matching funds are required for all financial assistance awarded under this program.

Application Kit: An application kit, containing all required application forms and certifications is available by contacting: Claudeen Julia; Office of Technology Policy; Technology Competitiveness Staff, Room 4418; United States Department of Commerce; 14th & Constitution Ave.; Washington, DC 20239; Tel: (202) 482-2100; E-mail: otptech@doc.gov

Additional Information

Funding Availability: Awards are contingent on the availability of funds.

Catalog of Federal Domestic Assistance Name and Number: 11.615, Office of Technology Policy Grants Program.

For Further Information Contact: All grants administration questions concerning these programs should be directed to the NIST Grants Office at (301) 975-5718.

Application Kit: The application kit includes the following:

SF 424 (Rev 7/97)—APPLICATION FOR FEDERAL ASSISTANCE

SF 424A (Rev 7/97)—BUDGET INFORMATION—Non-Construction Programs, including a detailed budget narrative explaining the details of each budget category and the basis for the cost. If indirect costs are included in the budget, a copy of the applicant's negotiated indirect cost rate must be submitted, if available.

SF 424B (Rev 7/97—ASSURANCE—Non-Construction Programs

CD 511 (7/91)—CERTIFICATION REGARDING DEBARMENT, SUSPENSION, AND OTHER RESPONSIBILITY MATTERS; DRUG-FREE WORKPLACE REQUIREMENTS AND LOBBYING

CD 512 (7/91)—CERTIFICATION REGARDING DEBARMENT, SUSPENSION, INELIGIBILITY AND VOLUNTARY EXCLUSION—LOWER TIER COVERED TRANSACTIONS AND LOBBYING

SF-LLL—DISCLOSURE OF LOBBYING ACTIVITIES

CD-346—APPLICANT FOR FUNDING ASSISTANCE

Paperwork Reduction Act: The Standard Forms 424, 424A, 424B and SR-LLL in the application kit are subject to the requirements of the Paperwork Reduction Act and have been approved by the Office of Management and Budget (OMB) under Control No. 0348-0043, 0348-0044, 0348-0040, and 0348-0046. CD-346 is approved under OMB Control No. 0605-0001.

Notwithstanding any other provision of the law, no person is required to respond to, nor shall any person be subject to a penalty for failure to comply with a collection, subject to the requirements of the Paperwork Reduction Act, unless that collection of information displays a currently valid OMB Control Number.

Research Projects Involving Human Subjects, Human Tissue, Data or Recordings Involving Human Subjects: Any proposal that includes research involving human subjects, human tissue, data or recording involving human subjects must meet the requirements of the Common Rule for the Protection of Human Subjects, codified for the Department of Commerce (DoC) at 15 CFR part 27. In addition, any proposal that includes research on these topics must be in compliance with any statutory requirements imposed upon NIH and other federal agencies regarding these topics, all regulatory policies and guidance adopted by NIH, FDA, and other federal agencies on these topics, and all Presidential statements of policy on these topics.

The NIH recently released their guidelines on the use of human pluripotent stem cells derived from human embryos in research. The DoC is currently reviewing these guidelines. Until DoC has had the opportunity to fully assess the new guidelines and develop appropriate implementing procedures, DoC will not consider proposals that involve human pluripotent stem cells derived from human embryos for funding.

On December 3, 2000, the U.S. Department of Health and Human Services (DHHS) introduced a new Federalwide Assurance of Protection of Human Subjects (FWA). The FWA covers all of an institution's Federally-supported human subjects research, and eliminates the need for other types of Assurance documents. In anticipation of the new Assurance, the Office for Human Research Protections (OHRP) has suspended processing of multiple project assurance (MPA) renewals. All existing MPAs will remain in force until further notice. OHRP will continue to accept new single project assurances (SPAs) until approximately March 1, 2001. For information about FWAs, please see the OHRP website at http://ohrp.osophs.dhhs.gov/whatsnew.htm.

In accordance with the DHHS change, DoC will continue to accept the submission of human subjects protocols that have been approved by Institutional Review Boards (IRBs) possessing a current, valid MPA from DHHS. DoC also will accept the submission of human subjects protocols that have been approved by IRBs possessing a current, valid FWA from DHHS. DoC will not issue an SPA for any IRB reviewing any human subjects protocol proposed to OTP.

Research Projects Involving Vertebrate Animals: Any proposal that includes research involving vertebrate animals must be in compliance with the National Research Council's “Guide for the Care and Use of Laboratory Animals” which can be obtained from National Academy Press, 2101 Constitution Avenue, NW., Washington, DC 20055. In addition, such proposals must meet the requirements of the Animal Welfare Act (7 U.S.C. 2131 et seq.), 9 CFR Parts 1, 2, and 3, and if appropriate, 21 CFR Part 58. These regulations do not apply to proposed research using pre-existing images of animals or to research plans that do not include live animals that are being cared for, euthanased, or used by the project participants to accomplish research goals, teaching, or testing. These regulations also do not apply to obtaining animal materials from commercial processors of animal products or to animal cell lines or tissues from tissue banks.

Type of Funding Instrument: The funding instrument will be a grant or cooperative agreement, depending on the nature of the proposed work. A grant will be used unless OTP is “substantially involved” in the project, in which case a cooperative agreement will be used. A common example of substantial involvement is collaboration between OTP personnel and recipient personnel. Further examples are listed in Section 5.03.d of Department of Commerce Administrative Order 203-26, which can be found at http://wwhttp://www.osec.doc.gov/bmi/daos/203-26.htm. OTP will make decisions regarding the use of a cooperative agreement on a case-by-case basis. Funding for contractual arrangements for services and products for delivery to OTP is not available under this announcement.

Additional Requirements

Primary Application Certifications: All primary applicant institutions must submit a completed form CD-511, “Certifications Regarding Debarment, Suspension and Other Responsibility Matters; Drug-Free Workplace Requirements and Lobbying,” and the following explanations must be provided:

1. Nonprocurement Debarment and Suspension. Prospective participants (as defined at 15 CFR part 26, Section 105) are subject to 15 CFR part 26, “Nonprocurment Debarment and Suspension” and the related section of the certification form prescribed above applies;

2. Drug-Free Workplace. Grantees (as defined at 15 CFR part 26, Section 605) are subject to 15 CFR part 26, Subpart F, “Government wide Requirements for Drug-Free Workplace (Grants)” and the related section of the certification form prescribed above applies;

3. Anti-Lobbying. Persons (as defined at 15 CFR part 28, Section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000, or the single family maximum mortgage limit for affected programs, whichever is greater.

4. Anti-Lobbying Disclosure. Any applicant institution that has paid or will pay for lobbying using any funds must submit an SF-LLL, “Disclosure of Lobbying Activities,” as required under 15 CFR part 28, Appendix B.

5. Lower-Tier Certifications. Recipients shall require applicant/bidder institutions for subgrants, contracts, subcontracts, or other lower tier covered transactions at any tier under the award to submit, if applicable, a completed Form CD-512, “Certifications Regarding Debarment, Suspension, Ineligibility and Voluntary Exclusion—Lower Tier Covered Transactions and Lobbying” and disclosure form, SF-LLL, “Disclosure of Lobbying Activities.” Form CD-512 is intended for the use of recipients and should not be transmitted to NIST. SF-LLL submitted by any tier recipient or subrecipient should be submitted to NIST in accordance with the instructions contained in the award document.

Name Check Reviews: All for-profit and non-profit applicants will be subject to a name check review process. Name checks are intended to reveal if any key individuals associated with the applicant have been convicted of or are presently facing, criminal charges such as fraud, theft, perjury, or other matters which significantly reflect on the applicant's management honesty or financial integrity. Form CD-346 must be completed for all personnel with key programmatic or fiduciary responsibilities.

Preaward Activities: Applicants (or their institutions) who incur any costs prior to an award being made do so solely at their own risk of not being reimbursed by the Government. Notwithstanding any verbal assurance that may have been provided, there is no obligation on the part of DoC to cover pre-award costs.

No Obligation for Future Funding: If an application is accepted for funding, DoC has no obligation to provide any additional future funding in connection with that award. Renewal of an award to increase funding or extend the period of performance is at the total discretion of DoC.

Past Performance: Unsatisfactory performance under prior Federal awards may result in an application not being considered for funding.

False Statements: A false statement on an application is grounds for denial or termination of funds, and grounds for possible punishment by a fine or imprisonment as provided in 18 U.S.C. 1001.

Delinquent Federal Debts: No award of Federal funds shall be made to an applicant who has an outstanding delinquent Federal debt until either:

1. The delinquent account is paid in full.

2. A negotiated repayment schedule is established and at least one payment is received, or

3. Other arrangements satisfactory to DoC are made.

Indirect costs: Regardless of any approved indirect cost rate applicable to the award, the maximum dollar amount of allocable indirect costs for which the DoC will reimburse the Recipient shall be the lesser of:

(a) the Federal Share of the total allocable indirect costs of the award based on the negotiated rate with the cognizant Federal agency as established by audit or negotiation; or

(b) the line item amount for the Federal share of indirect costs contained in the approved budget of the award.

Purchase of American-Made Equipment and Products: Applicants are hereby notified that they are encouraged, to the greatest practicable extent, to purchase American-made equipment and products with funding provided under this program.

Federal Policies and Procedures: Recipients and subrecipients under each of the above grant programs shall be subject to all Federal laws and Federal and Departmental regulations, policies, and procedures applicable to financial assistance awards, including 15 CFR part 14 and 15 CFR part 24, as applicable.

The OTP Grants Program does not directly affect any state or local government.

Applications under this program are not subject to Executive Order 12372, “Intergovernmental Review of Federal Programs.”

Executive Order Statement: This funding notice was determined to be “not significant” for purposes of Executive Order 12866.

Dated: May 15, 2001.
Karen H. Brown,
Acting Under Secretary for Technology.

[FR Doc. 01-12687 Filed 5-18-01; 8:45 am]

BILLING CODE 3510-18-M